DEPARTMENT OF THE INTERIOR

Fish and Wildlife Service

[Docket No. FWS-HQ-IA-2014-0018; 96300-1671-0000-R4]

Conference of the Parties to the Convention on International Trade in Endangered Species of Wild Fauna and Flora; Seventeenth Regular Meeting; Request for Information and Recommendations on Resolutions, Decisions, and Agenda Items for Consideration

AGENCY: Fish and Wildlife Service, Interior.

ACTION: Notice.

SUMMARY: To implement the Convention on International Trade in Endangered Species of Wild Fauna and Flora (CITES or the Convention), the Parties to the Convention meet periodically to review what species in international trade should be regulated and other aspects of the implementation of CITES. The seventeenth regular meeting of the Conference of the Parties to CITES (CoP17) is tentatively scheduled to be held in September 2016 in South Africa. With this notice we are soliciting and invite you to provide us with information and recommendations on resolutions, decisions, and agenda items that the United States might consider submitting for discussion at CoP17. In addition, with this notice we provide preliminary information on how to request approved observer status for nongovernmental organizations that wish to attend the meeting.

DATES: We will consider all information and comments we receive on or before July 10, 2015.

ADDRESSES: You may submit comments pertaining to recommendations for resolutions, decisions, and agenda items for discussion at CoP17 by one of the following methods:

• Federal eRulemaking Portal: http://www.regulations.gov. Follow the instructions for submitting comments on Docket No. FWS-HQ-IA-2014-0018 (the docket number for this notice).

• U.S. mail or hand-delivery: Public Comments Processing, Attn: FWS-HQ-IA-2014-0018; Division of Policy and Directives Management; U.S. Fish and Wildlife Service; 5275 Leesburg Pike; MS: BPHC; Falls Church, VA 22041.

We will not consider comments sent by email or fax, or to an address not listed in the ADDRESSES section. Comments and materials we receive in response to this notice will be available for public inspection on http://www.regulations.gov, or by appointment, between 8 a.m. and 4 p.m. Monday through Friday, except Federal holidays, at the U.S. Fish and Wildlife Service, Division of Management Authority, 5275 Leesburg Pike, 2nd Floor, Falls Church, VA 22041; telephone 703-358-2095.

FOR FURTHER INFORMATION CONTACT: For information pertaining to resolutions, decisions, and agenda items, contact Craig Hoover, Chief, Wildlife Trade and Conservation Branch, Division of Management Authority, at 703-358-2095 (phone), 703-358-2298 (fax), or managementauthority@fws.gov (email). If you use a telecommunications device for the deaf (TDD), call the Federal Information Relay Service (FIRS) at 800-877-8339. For information pertaining to species proposals, contact Rosemarie Gnam, Chief, Division of Scientific Authority, at 703-358-1708 (phone), 703-358-2276 (fax), or scientificauthority@fws.gov (email).

SUPPLEMENTARY INFORMATION:

Background

The Convention on International Trade in Endangered Species of Wild Fauna and Flora, hereinafter referred to as CITES or the Convention, is an international treaty designed to regulate international trade in certain animal and plant species that are now, or potentially may become, threatened with extinction. These species are listed in the Appendices to CITES, which are available on the CITES Secretariat's Web site at http://www.cites.org/eng/app/appendices.php.

Currently, 180 countries, including the United States, are Parties to CITES. The Convention calls for regular biennial meetings of the Conference of the Parties, unless the Conference decides otherwise. At these meetings, the Parties review the implementation of CITES, make provisions enabling the CITES Secretariat in Switzerland to carry out its functions, consider amendments to the list of species in Appendices I and II, consider reports presented by the Secretariat, and make recommendations for the improved effectiveness of CITES. Any country that is a Party to CITES may propose amendments to Appendices I and II, resolutions, decisions, and agenda items for consideration by all the Parties at the meeting.

This is our second in a series of Federal Register notices that, together with an announced public meeting (time and place to be announced), provide you with an opportunity to participate in the development of the U.S. submissions to, and negotiating positions for, the seventeenth regular meeting of the Conference of the Parties to CITES (CoP17), which is tentatively scheduled to be held in September 2016 in South Africa. We published our first CoP17-related Federal Register notice on June 27, 2014 (79 FR 36550), in which we requested information and recommendations on species proposals for the United States to consider submitting for discussion at CoP17. In that notice, we also described the U.S. approach to preparations for CoP17. We intend to announce tentative species proposals that the United States is considering submitting for CoP17 and solicit further information and comments on them when we publish our next CoP17-related Federal Register notice. You may obtain information on species proposals by contacting the Division of Scientific Authority at the telephone number or email address provided in FOR FURTHER INFORMATION CONTACT above. Our regulations governing this public process are found at 50 CFR 23.87.

Request for Information and Recommendations on Resolutions, Decisions, and Agenda Items

Although we have not yet received formal notice of the provisional agenda for CoP17, we invite your input on possible agenda items that the United States could recommend for inclusion, or on possible resolutions and decisions of the Conference of the Parties that the United States could submit for consideration. Copies of the agenda and the results of the last meeting of the Conference of the Parties (CoP16) in Bangkok, Thailand, in March 2013, as well as copies of all resolutions and decisions of the Conference of the Parties currently in effect, are available on the CITES Secretariat's Web site (http://www.cites.org/) or from the Division of Management Authority at the address provided in the ADDRESSES section above.

Observers

Article XI, paragraph 7 of CITES provides: “Any body or agency technically qualified in protection, conservation or management of wild fauna and flora, in the following categories, which has informed the Secretariat of its desire to be represented at meetings of the Conference by observers, shall be admitted unless at least one-third of the Parties present object:

(a) international agencies or bodies, either governmental or nongovernmental, and national governmental agencies and bodies; and

(b) national nongovernmental agencies or bodies which have been approved for this purpose by the State in which they are located.

Once admitted, these observers shall have the right to participate but not to vote.”

National agencies or organizations within the United States must obtain our approval to participate in CoP17, whereas international agencies or organizations must obtain approval directly from the CITES Secretariat. We will publish information in a future Federal Register notice on how to request approved observer status. A factsheet on the process is posted on our Web site at: http://www.fws.gov/international/pdf/factsheet-become-observer-to-cites-meeting-2013.pdf.

Future Actions

As stated above, the next regular meeting of the Conference of the Parties (CoP17) is tentatively scheduled to be held in South Africa in September 2016. The United States must submit any proposals to amend Appendix I or II, or any draft resolutions, decisions, or agenda items for discussion at CoP17, to the CITES Secretariat no later than 150 days (tentatively April 2016) prior to the start of the meeting. In order to meet this deadline and to prepare for CoP17, we have developed a tentative U.S. schedule. Approximately 14 months prior to CoP17, we plan to publish our next CoP17-related Federal Register notice announcing tentative species proposals that the United States is considering submitting for CoP17 and soliciting further information and comments on them. Following publication of that Federal Register notice and approximately 12 months prior to CoP17, we plan to publish a Federal Register notice announcing draft resolutions, draft decisions, and agenda items the United States is considering submitting for CoP17 and soliciting further information and comments on them. Approximately 4 months prior to CoP17, we will post on our Web site an announcement of the species proposals, draft resolutions, draft decisions, and agenda items submitted by the United States to the CITES Secretariat for consideration at CoP17.

Through a series of additional notices and Web site postings in advance of CoP17, we will inform you about preliminary negotiating positions on resolutions, decisions, and amendments to the Appendices proposed by other Parties for consideration at CoP17, and about how to obtain observer status from us. We will also publish an announcement of a public meeting tentatively to be held approximately 3 months prior to CoP17. That meeting will enable us to receive public input on our positions regarding CoP17 issues. The procedures for developing U.S. documents and negotiating positions for a meeting of the Conference of the Parties to CITES are outlined in 50 CFR 23.87. As noted in paragraph (c) of that section, we may modify or suspend the procedures outlined there if they would interfere with the timely or appropriate development of documents for submission to the CoP and of U.S. negotiating positions.

Author

The primary author of this notice is Mark Albert, Division of Management Authority, U.S. Fish and Wildlife Service.

Authority

The authority for this action is the Endangered Species Act of 1973, as amended (16 U.S.C. 1531 et seq.).

Date: April 30, 2015.
Stephen Guertin
Acting Director, U.S. Fish and Wildlife Service.

[FR Doc. 2015-11251 Filed 5-8-15; 8:45 am]

BILLING CODE 4310-55-P